DEPARTMENT OF THE INTERIOR

Office of the Secretary

Notice of Natural Resource Damage Assessment and Restoration Advisory Committee Meeting

ACTION: Notice; FACA Committee Meeting announcement.

SUMMARY: As required by the Federal Advisory Committee Act, Public Law 92-463, the Department of the Interior, Natural Resource Damage Assessment and Restoration Program Office gives notice of the upcoming meeting of the Department's Natural Resource Damage Assessment and Restoration Advisory Committee. The Advisory Committee will meet in the Rio Grande Room in Building 67 on the Denver Federal Center from 8:30 a.m. to 5 p.m. mountain time on July 26 and July 27, 2006. Members of the public are invited to attend the Committee Meeting to listen to the committee proceedings and to provide public input.

Public Input: Any member of the public interested in providing public input at the Committee Meeting should contact Ms. Barbara Schmalz, whose contact information is listed under the FOR FURTHER INFORMATION CONTACT section of this notice. Each individual providing oral input is requested to limit those comments to three minutes. This time frame may be adjusted to accommodate all those who would like to speak. Requests to be added to the public speaker list must be received in writing (letter, e-mail, or fax) by noon mountain time on July 18, 2006. Anyone wishing to submit written comments should provide a copy of those comments to Ms. Schmalz in the following formats: one hard copy with original signature, and one electronic copy via e-mail (acceptable file formats are: Adobe Acrobat, WordPerfect, Word, or Rich Text files) by noon mountain time on July 18, 2006.

Document Availability: In preparation for this meeting of the Advisory Committee, the Committee and the public can find helpful background information at the Restoration Program Web site http://restoration.doi.gov. The site provides a good introduction to the program for those who are relatively new to the damage assessment and restoration arena and a useful reference for seasoned practitioners and policy leaders. Links to the statutory and regulatory framework for the program are found at http://restoration.doi.gov/laws.htm. DOI Program policies are found at http://restoration.doi.gov/policy.htm. Reference materials and preliminary subcommittee reports will also be posted on the site as they become available from the four subcommittees. After July 18, interested individuals may view the draft agenda for the meeting online at http://restoration.doi.gov/faca or may request the draft agenda from Ms. Schmalz.

Agenda for Meeting

The agenda will cover the following principal subjects:

—Discussion of subcommittee reports.

—Formal public input (if any).

—Committee agreement on each subcommittee scope and plan.

—Develop schedule for next Committee meeting.

We estimate that each subcommittee report, discussion, and associated public input will take approximately four hours. However, the timeframes will remain flexible. If a subcommittee report and discussion requires less than four hours, the committee will move directly on to the next topic.

Meeting Access: Individuals requiring special accommodation at this meeting must contact Ms. Barbara Schmalz (see contact information below) by noon mountain time on July 18, 2006, so that appropriate arrangements can be made.

DATES: July 26, 2006, from 8:30 a.m. to 5 p.m. mountain time (open to the public); July 27, 2006, from 8:30 a.m. to 5 p.m. mountain time (open to the public).

ADDRESSES: Rio Grande Room, Mezzanine Level, Building 67, Denver Federal Center, 6th Avenue & Kipling, Denver CO 80225.

All individuals attending the Committee Meeting will need to present photo identification to the entry gate security officers to gain access to the Denver Federal Center. Attendees will need to use the south entrance to Building 67 and present photo identification to the building security officers to gain access to Building 67.

FOR FURTHER INFORMATION CONTACT: Barbara Schmalz, U.S. Department of the Interior, Denver Federal Center, 6th Avenue & Kipling, Building 56, Room 1003, Mail Stop D-108, Denver, CO 80225-0007; phone 303-445-2500; fax 303-445-6320 or barbara_schmalz@ios.doi.gov.

Dated: June 30, 2006.
Frank M. DeLuise,
Designated Federal Officer, DOI Natural Resource Damage Assessment and Restoration Advisory Committee.

[FR Doc. E6-10602 Filed 7-6-06; 8:45 am]

BILLING CODE 4310-10-P